DEPARTMENT OF ENERGY

Commission to Review the Effectiveness of the National Energy Laboratories

AGENCY: Department of Energy.

ACTION: Notice of Open Meeting.

SUMMARY: This notice announces an open meeting of the Commission to Review the Effectiveness of the National Energy Laboratories (Commission). The Commission was created pursuant to section 319 of the Consolidated Appropriations Act, 2014, Public Law 113-76, and in accordance with the provisions of the Federal Advisory Committee Act (FACA), as amended, 5 U.S.C. App. 2. This notice is provided in accordance with the Act.

DATES: Friday, July 18, 2014; 10:30 a.m.-4:00 p.m.

ADDRESSES: Department of Energy, 1000 Independence Avenue SW., Washington, DC 20585.

FOR FURTHER INFORMATION CONTACT: Karen Gibson, Designated Federal Officer, U.S. Department of Energy, 1000 Independence Avenue SW., Washington, DC 20585; telephone (202) 586-3787; email: crenel@hq.doe.gov.

SUPPLEMENTARY INFORMATION: Background: The Commission was established to provide advice to the Secretary on the Department's national laboratories. The activities of the Commission will include, but are not limited to: whether the Department of Energy's (DOE) national laboratories—are properly aligned with the Department's strategic priorities; have clear, well understood, and properly balanced missions that are not unnecessarily redundant and duplicative; have unique capabilities that have sufficiently evolved to meet current and future energy and national security challenges; are appropriately sized to meet the Department's energy and national security missions; and are appropriately supporting other Federal agencies and the extent to which it benefits DOE missions. The Commission will determine whether there are opportunities to more effectively and efficiently use the capabilities of the national laboratories. The Commission will also analyze the effectiveness of the use of laboratory directed research and development (LDRD) to meet the Department of Energy's science, energy, and national security goals and evaluate the Department's oversight of LDRD-funded projects for compliance with statutory requirements and congressional direction.

Purpose of the Meeting: This meeting is the first meeting of the Commission.

Tentative Agenda: The meeting will start at 10:30 a.m. on July 18th. The tentative meeting agenda includes discussions with Hill staff, briefings on the national laboratory system, an introduction to prior and current studies focusing on the labs, a discussion with representatives of the National Laboratory Directors Council, and comments from the public. The meeting will conclude at 4:00 p.m.

Public Participation: The meeting is open to the public. Individuals who would like to attend must RSVP to Karen Gibson no later than 5:00 p.m. on Monday, July 14, 2014 by email at: crenel@hq.doe.gov. Please provide your name, organization, citizenship, and contact information. Anyone attending the meeting will be required to present government-issued identification. Individuals and representatives of organizations who would like to offer comments and suggestions may do so at the end of the meeting. Approximately 30 minutes will be reserved for public comments. Time allotted per speaker will depend on the number who wish to speak but will not exceed 5 minutes. The Designated Federal Officer is empowered to conduct the meeting in a fashion that will facilitate the orderly conduct of business. Those who did not register in advance to attend the meeting and who wish to speak, should register to do so at the beginning of the meeting at 10:30 a.m. on July 18th.

Those not able to attend the meeting or who have insufficient time to address the committee are invited to send a written statement to Karen Gibson, U.S. Department of Energy, 1000 Independence Avenue SW., Washington DC 20585, or by email at: crenel@hq.doe.gov.

Minutes: The minutes of the meeting will be available by contacting Ms. Gibson at postal address or email address above.

Issued in Washington, DC, on June 24, 2014.
LaTanya R. Butler,
Deputy Committee Management Officer.

[FR Doc. 2014-15291 Filed 6-27-14; 8:45 am]

BILLING CODE 6450-01-P